DEPARTMENT OF THE INTERIOR

Bureau of Land Management

[MT-926-07-1420-BJ-TRST]

Montana: Filing of Plat of Survey

AGENCY: Bureau of Land Management, Montana State Office, Interior.

ACTION: Notice of Filing of Plat of Survey.

SUMMARY: The Bureau of Land Management (BLM) will file the plat of survey of the lands described below in the BLM Montana State Office, Billings, Montana, (30) days from the date of publication in the Federal Register.

FOR FURTHER INFORMATION CONTACT: Marvin Montoya, Cadastral Surveyor, Branch of Cadastral Survey, Bureau of Land Management, 5001 Southgate Drive, Billings, Montana 59101-4669, telephone (406) 896-5124 or (406) 896-5009.

SUPPLEMENTARY INFORMATION: This survey was executed at the request of the Regional Director, Rocky Mountain Region, Billings, Montana, and was necessary to determine Trust and Tribal lands.

The lands we surveyed are:

Principal Meridian, Montana

T. 27 N., R. 50 E.

The plat, in 2 sheets, representing the corrective dependent resurvey of a portion of the subdivisional lines, a portion of the subdivision of sections 15 and 16, and the division of accretion lines in sections 15 and 16, and the dependent resurvey of a portion of the subdivisional lines, a portion of the subdivision of sections 14, 15, and 16, the adjusted original meanders of the former left bank of the Missouri River, downstream through sections 14, 15, and 16, and the subdivision of section 14, and the survey of the meanders of the present left bank of the Missouri River, downstream through sections 14 and 15, and through a portion of section 16, the limits of erosion, downstream through sections 14 and 15, the meanders of the former left bank of certain relicted channels in sections 14 and 15, and the medial line of certain relicted channels in sections 14 and 15, certain division of accretion and partition lines, and two islands Tracts 37 and 38, Township 27 North, Range 50 East, Principal Meridian, Montana, was accepted October 5, 2006.

We will place a copy of the plat, in 2 sheets, and related field notes we described in the open files. They will be available to the public as a matter of information.

If BLM receives a protest against this survey, as shown on this plat, in 2 sheets, prior to the date of the official filing, we will stay the filing pending our consideration of the protest.

We will not officially file this plat, in 2 sheets, until the day after we have accepted or dismissed all protests and they have become final, including decisions or appeals.

Dated: October 12, 2006.
Thomas M. Deiling,
Chief Cadastral Surveyor, Division of Resources.

[FR Doc. E6-17422 Filed 10-18-06; 8:45 am]

BILLING CODE 4310-$$-P